DEPARTMENT OF THE INTERIOR

Office of the Secretary

[FF09R81000-156-FXRS126309WHHC0]

Wildlife and Hunting Heritage Conservation Council

AGENCY: Fish and Wildlife Service, Interior.

ACTION: Call for nominations.

SUMMARY: The Secretary of the Interior and the Secretary of Agriculture seek nominations for individuals to be considered as members of the Wildlife and Hunting Heritage Conservation Council (Council). The Council provides advice about wildlife and habitat conservation endeavors that (a) benefit wildlife resources; (b) encourage partnership among the public, sporting conservation organizations, States, Native American tribes, and the Federal Government; and (c) benefit recreational hunting. Nominations should describe and document the proposed nominee's qualifications for membership to the Council, and include a resume listing his or her full name, address, telephone, and fax number.

DATES: Written nominations must be received by April 27, 2015.

ADDRESSES: Send nominations to Joshua Winchell, Designated Federal Officer and Coordinator, Wildlife and Hunting Heritage Conservation Council, U.S. Fish and Wildlife Service, National Wildlife Refuge System, 5275 Leesburg Pike, Falls Church, VA 22041-3803.

FOR FURTHER INFORMATION CONTACT: Joshua Winchell, at address above, or by telephone at (703) 358-2639.

SUPPLEMENTARY INFORMATION: The Council conducts its operations in accordance with the provisions of the Federal Advisory Committee Act (5 U.S.C. App.; FACA). It reports to the Secretary of the Interior and the Secretary of Agriculture through the Fish and Wildlife Service, in consultation with the Director of the Bureau of Land Management; the Director of the National Park Service; the Chief, U.S. Forest Service; the Chief, Natural Resources Conservation Service; and the Administrator of the Farm Service Agency. The Council functions solely as an advisory body. The Council's duties consist of, but are not limited to, providing recommendations for:

(a) Implementing the Recreational Hunting and Wildlife Resource Conservation Plan—A Ten-Year Plan for Implementation;

(b) Increasing public awareness of and support for the Wildlife Restoration Program;

(c) Fostering wildlife and habitat conservation and ethics in hunting and shooting sports recreation;

(d) Stimulating sportsmen and women's participation in conservation and management of wildlife and habitat resources through outreach and education;

(e) Fostering communication and coordination among State, tribal, and Federal governments; industry; hunting and shooting sportsmen and women; wildlife and habitat conservation and management organizations; and the public;

(f) Providing appropriate access to Federal lands for recreational shooting and hunting;

(g) Providing recommendations to improve implementation of Federal conservation programs that benefit wildlife, hunting, and outdoor recreation on private lands; and

(h) When requested by the Designated Federal Officer (DFO) in consultation with the Council Chairman, performing a variety of assessments or reviews of policies, programs, and efforts through the Council's designated subcommittees or workgroups.

The Council consists of no more than 18 discretionary members. The Secretary of the Interior and the Secretary of Agriculture appoint discretionary members for 3-year terms. The Secretaries will select discretionary members from among the national interest groups listed below. These members must be senior-level representatives of their organizations and/or have the ability to represent their designated constituency.

(1) State fish and wildlife resource management agencies;

(2) Wildlife and habitat conservation/management organizations;

(3) Game bird hunting organizations;

(4) Waterfowl hunting organizations;

(5) Big game hunting organizations;

(6) Sportsmen and women community at large;

(7) Archery, hunting, and/or shooting sports industry;

(8) Hunting and shooting sports outreach and education organizations;

(9) Tourism, outfitter, and/or guide industries related to hunting and/or shooting sports; and

(10) Tribal resource management organizations.

The Council functions solely as an advisory body and in compliance with provisions of the FACA.

Individuals who are federally registered lobbyists are ineligible to serve on all FACA and non-FACA boards, committees, or councils in an individual capacity. The term “individual capacity” refers to individuals who are appointed to exercise their own individual best judgment on behalf of the government, such as when they are designated Special Government Employees, rather than being appointed to represent a particular interest.

Dated: February 26, 2015.
James W. Kurth,
Acting Director.

[FR Doc. 2015-06914 Filed 3-25-15; 8:45 am]

BILLING CODE 4310-55-P